DEPARTMENT OF VETERANS AFFAIRS

Fund Availability Under the VA Homeless Providers Grant and Per Diem Program

AGENCY: Department of Veterans Affairs.

ACTION: Notice.

SUMMARY: The Department of Veterans Affairs (VA) is announcing the availability of funds for applications for assistance under the Capital Grant component of VA's Homeless Providers Grant and Per Diem Program. This Notice contains information concerning the program, funding priorities, application process, and amount of funding available.

Applicants who do not require funding for acquisition, renovation or new construction to create new housing for homeless veterans should not respond to this Notice of Funding Availability (NOFA). Per Diem-Only (PDO) funding will not be given under this notice. If your agency is in need of funding for operations-only, your agency should apply under a Grant and Per Diem; PDO Funding Notice.

DATES: An original completed and collated capital grant application (plus three completed collated copies) for assistance under VA's Homeless Providers Grant and Per Diem Program must be received in the Grant and Per Diem Field Office, by 4 p.m. Eastern Time on March 31, 2010. Applications may not be sent by facsimile (FAX). In the interest of fairness to all competing applicants, this deadline is firm as to date and hour, and VA will treat as ineligible for consideration any application that is received after the deadline. Applicants should take this practice into account and make early submission of their material to avoid any risk of loss of eligibility due to unanticipated delays, computer service outages (in the case of Grants.gov), or other delivery-related problems.

For a Copy of the Application Package: Download directly from VA's Grant and Per Diem Program Web page at: http://www.va.gov/homeless/ or http://www.grants.gov/. Questions should be referred to the Grant and Per Diem Program at (toll-free) 1-877-332-0334. For a document relating to VA's Homeless Providers Grant and Per Diem Program, see the Final Rule published in the Federal Register on September 26, 2003.

Submission of Application: An original completed and collated grant application (plus three copies) and a cover letter clearly stating under which funding priority (see funding priorities) applicants wish to be considered must be submitted to the following address: VA Homeless Providers Grant and Per Diem Field Office, 10770 North 46th Street, Suite C-200, Tampa, FL 33617. Applications must be received in the Grant and Per Diem Field office by the application deadline. This includes applications submitted through Grants.gov. Applications must arrive as a complete package. Materials arriving separately will not be included in the application package for consideration and may result in the application being rejected or not funded.

FOR FURTHER INFORMATION CONTACT: Ms. Chelsea Watson, VA Homeless Providers Grant and Per Diem Program, Department of Veterans Affairs, 10770 North 46th Street, Suite C-200, Tampa, FL 33617, or you may call (toll-free) 1-877-332-0334.

SUPPLEMENTARY INFORMATION: This Notice announces the availability of capital funds for assistance under VA's Homeless Providers Grant and Per Diem Program for eligible entities to: (1) Expand existing transitional housing projects; or (2) develop new transitional housing programs. Supportive service centers will not be considered in this NOFA. Funding applied for under the capital grant component may be used for: (1) Remodeling or alteration of existing buildings; (2) acquisition or rehabilitation of buildings; (3) new construction; and (4) acquisition of vans (in connection with a new grant and per diem grant project) for outreach to and transportation for homeless veterans. Funding sought under this Notice is authorized by the “Homeless Veterans Comprehensive Assistance Act of 2001,” Public Law 107-95, § 5, codified as amended at 38 U.S.C. 2011, 2012, 2013, 2061, 2064. For eligibility criteria please refer to 38 CFR part 61.

Capital grant applicants may not receive assistance to replace funds provided by any State or local government to assist homeless persons. Note: Applicants considering the use of Low Income Housing Tax Credits in conjunction with the capital grants in this NOFA should take into account that these tax credits are often used for permanent housing projects. Permanent housing is not an eligible activity under VA's Homeless Providers Grant and Per Diem Program. Other issues such as site control, leases for residents, and using the grant funds as a loan may be problematic to applicants even if transitional housing is provided, and upon review and discovery may result in the application being denied.

A proposal for an existing project that seeks to shift its focus by changing the population being served or the precise mix of services being offered is not eligible for consideration. No more than 25 percent of housing and services available in projects funded through this grant program may be provided to clients who are not receiving those services as veterans.

VA is pleased to issue this NOFA for the Homeless Providers Grant and Per Diem Program. The Department expects to award approximately $24 million under the capital grant component.

Funding available under this NOFA is being offered to help offset the capital expenses of existing State and local governments, Indian Tribal Governments, faith-based and community-based organizations that are capable of creating and providing supported transitional housing for homeless veterans. The District of Columbia, the Commonwealth of Puerto Rico, and any territory or possession of the United States, are considered eligible entities under the definition of “State” in the Final Rule, § 61.1 Definitions.

Note, all organizations that are conditionally selected will be requested to submit the second submission portion of the application package. In order to be considered eligible for funding, organizations must demonstrate in the second submission firm commitments to match 35 percent of the total project cost or the difference between the total project cost and what is requested from VA, whichever is greater.

Per diem for these programs is requested in the grant application and may be paid at the time of grant project completion. It should be noted that VA per diem payment is limited to the applicant's cost of care per eligible veteran minus other sources of payments to the applicant for furnishing services to homeless veterans up to the per day rate VA pays for State Home Domiciliary care. Awardees will be required to support their request for per diem payment with adequate fiscal documentation as to program income and expenses.

Interested organizations should know that the vast majority of homeless veterans in this country suffer from mental illness or substance abuse disorders or are dually diagnosed with both mental illness and substance abuse disorders. In addition, many homeless veterans have serious medical problems. The recent events associated with the Nation's returning Operation Enduring Freedom/Operation Iraqi Freedom (OEF/OIF) veterans further emphasizes the need for collaboration with VA medical centers, VA community-based outpatient clinics or other health care providers as well as with VA and other benefit providers to ensure that homeless veterans have access to appropriate health care services. VA considers this program an important part of our effort to end chronic homelessness among all veterans.

It is important to be aware that VA places great emphasis on responsibility and accountability. VA has procedures in place to verify the completion of the capital grant as well as monitor services provided to homeless veterans and outcomes associated with the services provided in grant and per diem-funded programs. Applicants should be aware of the following:

All awardees that are conditionally selected in response to this NOFA must meet the requirements of the current edition of the Life Safety Code of the National Fire Protection Association as it relates to their specific facility. Applicants should note that all facilities are to be protected throughout by an approved automatic sprinkler system unless a facility is specifically exempted under the Life Safety Code. Applicants should make consideration of this when submitting their capital grant applications. VA will conduct an inspection prior to awardees being able to submit requests for per diem payment to ensure this requirement is met.

Upon capital grant completion each program seeking per diem will have a liaison appointed from a nearby VA medical facility to provide oversight and monitor services provided to homeless veterans in the per diem-funded program.

Monitoring will include at a minimum an annual review of each per diem program's progress toward meeting internal goals and objectives in helping veterans attain housing stability, adequate income support, and self-sufficiency as identified in each per diem program's original application. Monitoring will also include a review of the agency's income and expenses as they relate to this project to ensure per diem payment is accurate.

Each per diem-funded program will participate in VA's National Program Monitoring and Evaluation System administered by VA's Northeast Program Evaluation Center (NEPEC). NEPEC's monitoring procedures will be used to determine successful accomplishment of these housing outcomes for each per diem-funded program.

Authority: Funding applied for under this Notice is authorized by the “Homeless Veterans Comprehensive Assistance Act of 2001,” Public Law 107-95, § 5, codified as amended at 38 U.S.C. 2011, 2012, 2013, 2061, 2064. The program is implemented by the Final Rule codified at 38 CFR part 61.0. The regulations can be found in 38 CFR 61.0 through 61.82. Funds made available under this Notice are subject to the requirements of the aforementioned regulations.

Allocation: Approximately $24 million is available for the capital grant component. Capital grant awards will be limited to transitional housing projects; service center programs will not be considered in this round. Vans must be directly connected to a new grant and per diem Grant project and will be limited to one per project number. Per diem payments to capital grant recipients are subject to the availability of funds and recipients maintaining the program for which the grant was awarded.

Funding Priorities: VA establishes the following funding priorities in order to: (1) Implement the provisions of Public Law 107-95 regarding geographical dispersion and non-duplication of service; and (2) bolster capacity in areas that are underserved by the Grant and Per Diem Program. These areas may have high populations of homeless veterans and limited services to address homeless veterans' needs. These areas can include both urban and rural areas but may be particularly prevalent outside the high population areas.

VA is offering to eligible applicants funding priorities for transitional housing and services for (1) women veterans and women veterans caring for dependent children and (2) Indian Tribal Governments or non-profit agencies that will provide transitional housing and services on Indian Tribal Property. In addition, VA is encouraging interested State and local governments, faith-based and community-based organizations to apply for funding under this NOFA. In this round of capital grant funding, VA expects to award funding to create approximately 1,000 community-based supported housing beds.

Funding priority 1. VA is offering the opportunity for providers who are willing to create new projects (30 beds or less) specifically for women veterans and women veterans with care of dependent children only. Of those eligible entities in the first funding priority that are legally fundable, the highest scoring applicants will be funded first until approximately $3 million is awarded. Applicants not funded in this priority will be considered in the third funding priority. Should not enough eligible projects be funded under the first funding priority, funds not expended in this priority will fall to the third funding priority.

Funding priority 2. VA is offering the opportunity to Indian Tribal Governments or non-profit agencies that will provide transitional housing and services on Indian Tribal Property to apply for funding under this NOFA to create transitional housing and services for homeless veterans. Eligible entities that are Indian Tribal Governments or non-profit agencies willing to provide transitional housing and services on Indian Tribal Property will be considered in the second funding priority as applicable. Of those eligible entities in the second funding priority that are legally fundable, the highest scoring applicants will be funded first until approximately $2 million is awarded. Applicants not funded in this priority will be placed in the third funding priority. Should not enough eligible projects be funded under the second funding priority, funds not expended in this priority will fall to the third funding priority. Note: Non-profit agencies who apply under this priority will be required to provide a letter of assurance from the Indian Tribal Government that if funded the provision of service will occur on Indian Tribal Property.

Funding priority 3. VA is encouraging interested State and local governments, non-profit organizations and State and local governments that have been selected to utilize buildings on VA Medical Center grounds under the Secretary's Enhanced Use Lease Program initiative for housing homeless veterans, faith-based, and community-based organizations, as well as eligible entities located in the District of Columbia, the Commonwealth of Puerto Rico, or any territory or possession of the United States, to apply for funding under this NOFA to create transitional housing and services for all homeless veterans. Eligible entities that are State and local governments, Indian Tribal Governments, Enhanced Use Lease organizations, faith-based, and community-based organizations, or any territory or possession of the United States, will be considered in the third funding priority as applicable. Of those eligible entities that are legally fundable, the highest-ranked applications for which funding is available, will be conditionally selected for eligibility to receive a capital grant in accordance with their ranked order until funding is expended (approximately $19 million).

Methodology: VA will review all capital grant applications in response to this Notice of funding availability as follows: VA will group the applicants into the funding priority categories as applicable. Applicants will then be ranked within their respective funding category based on score and any ranking criteria set forth in that funding category only if the applicant scores at least 600 cumulative points, and receive points under the criteria in paragraphs (b), (c), (d), (e) and (i) of § 61.13.

The highest-ranked application for which funding is available, within the highest funding category, will be conditionally selected in accordance with their ranked order until VA reaches the projected amount of funding for each category. If funds are still available after selection of those applications in the highest priority group, VA will continue to conditionally select applicants in lower priority categories in accordance with the selection method set forth in the Final Rule § 61.14.

Application Requirements: Applicants must include a cover letter clearly stating under which funding priority they wish to be considered. Non-profit agencies who apply under funding priority two are required to provide a letter of assurance from the Indian Tribal Government stating that if funded the provision of service will occur on Indian Tribal Property. The grant application requirements will be specified in the application package. Applicants should be careful to complete the proper application package. Submission of the incorrect or incomplete application package will result in the application being rejected at threshold. The packages include all required forms and certifications. Selections will be made based on criteria described in the application, Final Rule, and NOFA. Applicants who are conditionally selected will be notified of any additional information needed to confirm or clarify information provided in the application. Applicants will then be notified of the deadline to submit such information. If an applicant is unable to meet any conditions for grant award within the specified time frame, VA reserves the right to not award funds and to use the funds available for other grant and per diem applicants.

Dated: January 11, 2010.
John R. Gingrich,
Chief of Staff, Department of Veterans Affairs.

[FR Doc. 2010-1296 Filed 1-22-10; 8:45 am]

BILLING CODE 8320-01-P